OFFICE OF PERSONNEL MANAGEMENT

Excepted Service

AGENCY: Office of Personnel Management.

ACTION: Notice.

SUMMARY: This gives notice of positions placed or revoked under Schedules A and B, and placed under Schedule C in the excepted service, as required by Civil Service Rule VI, Exceptions from the Competitive Service.

FOR FURTHER INFORMATION CONTACT: Suzy Barker, Staffing Reinvention Office, Employment Service, (202) 606-0830.

SUPPLEMENTARY INFORMATION: The Office of Personnel Management published its last monthly notice updating appointing authorities established or revoked under the Excepted Service provisions of 5 CFR 213 on Monday, April 10, 2000 (65 FR 19034). Individual authorities established or revoked under Schedules A and B and established under Schedule C between March 1, 2000, and March 31, 1999, appear in the listing below. Future notices will be published on the fourth Tuesday of each month, or as soon as possible thereafter. A consolidated listing of all authorities as of June 30 will also be published.

Schedule A

The following Schedule A authority was established during the month of March:

U.S. Chemical Safety and Hazard Investigations Board

Up to 37 positions established to create the Chemical Safety and Hazard Investigations Board. No new appointments may be made under this authority after December 31, 2000. Effective March 20, 2000.

No Schedule A authorities were revoked during the month of March 2000.

Schedule B

The following Schedule B authority was established during the month of March 2000:

Department of Treasury

Positions, grades GS-5 through 9, of Treasury Enforcement Agent in the Bureau of Alcohol, Tobacco, and Firearms; and Treasury Enforcement Agent, Pilot, Marine Enforcement Officer, and Aviation Enforcement Officer in the U.S. Customs Service. Service under this authority may not exceed 3 years. Effective March 20, 2000.

No Schedule B authorities were revoked during the month of March 2000.

Schedule C

The following Schedule C authorities were established during March 2000:

Department of Agriculture

Confidential Assistant to the Administrator, Animal and Plant Inspection Service. Effective March 9, 2000.

Confidential Assistant to the Director, Legislative Affairs and Public Affairs Staff. Effective March 9, 2000.

Confidential Assistant to the Administrator, External Affairs Staff. Effective March 21, 2000.

Deputy Press Secretary to the Press Secretary. Effective March 21, 2000.

Confidential Assistant to the Administrator, Rural Utilities Service. Effective March 21, 2000.

Confidential Assistant to the Administrator, Inspection, Packers and Stockyards Administration. Effective March 24, 2000.

Department of Commerce

Special Assistant to the Director, Office of Public Affairs. Effective March 10, 2000.

Special Assistant to the Director, Office of Public Affairs and Press Secretary. Effective March 14, 2000.

Special Assistant to the Director, Office of Sustainable Development and Intergovernmental Affairs. Effective March 15, 2000.

Department of Defense

Director, Cooperative Threat Reduction to the Assistant Secretary of Defense (Strategy and Threat Reduction). Effective March 31, 2000.

Department of Education

Confidential Assistant to the Deputy Assistant Secretary, Office of Intergovernmental and Interagency Affairs. Effective March 8, 2000.

Confidential Assistant to the Director, Scheduling and Briefing Staff. Effective March 15, 2000.

Confidential Assistant to the Chief of Staff. Effective March 16, 2000.

Deputy Director, Scheduling and Briefing Staff to the Director Scheduling and Briefing Staff. Effective March 28, 2000.

Special Assistant to the Assistant Secretary, Office of Vocational and Adult Education. Effective March 30, 2000.

Department of Energy

Special Assistant to the Deputy Assistant Secretary for Transportation Technologies. Effective March 2, 2000.

Staff Assistant to the Assistant Secretary for Energy Efficiency and Renewable Energy. Effective March 8, 2000.

Special Assistant to the Director, Office of Economic Impact and Diversity. Effective March 8, 2000.

Special Assistant to the Director, Office of Scheduling and Advance. Effective March 16, 2000.

Special Assistant to the Director, Office of Scheduling and Advance. Effective March 17, 2000.

Special Assistant to the Director, Scheduling and Briefing. Effective March 28, 2000.

Deputy Assistant Secretary for Intergovernmental and External Affairs to the Principal Deputy Assistant Secretary for Congressional and Intergovernmental Affairs. Effective March 30, 2000.

Department of Health and Human Services

Confidential Assistant (Scheduling) to the Director of Scheduling and Advance. Effective March 2, 2000.

Director of Speechwriting to the Deputy Assistant Secretary for Public Affairs (Media). Effective March 16, 2000.

Department of Housing and Urban Development

Special Assistant to the Advisor for Management Reform and Operations. Effective March 8, 2000.

Director, Office of Insured Health Care Facilities to the Assistant Secretary for Housing—Federal Housing Commissioner. Effective March 16, 2000.

Senior Intergovernmental Relations Officer to the Deputy

Assistant Secretary for Intergovernmental Relations. Effective March 17, 2000.

Department of Justice

Secretary (Office Automation) to the United States Attorney General, Nevada. Effective March 7, 2000.

Special Assistant to the Director, Violence Against Women Office. Effective March 8, 2000.

Special Assistant to the Assistant Attorney General. Effective March 14, 2000.

Department of Labor

Special Assistant to the Director, Office of Public Liaison. Effective March 15, 2000.

Intergovernmental Officer to the Assistant Secretary for Congressional and Intergovernmental Affairs. Effective March 22, 2000.

Chief of Staff to the Assistant Secretary, Office of Congressional and Intergovernmental Affairs. Effective March 22, 2000.

Associate Director to the Assistant Secretary for Congressional and Intergovernmental Affairs. Effective March 24, 2000.

Special Assistant to the Deputy Secretary of Labor. Effective March 24, 2000.

Department of State

Foreign Affairs Officer to the Under Secretary for Global Affairs. Effective March 7, 2000.

Special Assistant to the Chief of Protocol. Effective March 16, 2000.

Foreign Affairs Officer to the Deputy Director. Effective March 31, 2000.

Department of Transportation

Special Assistant to the Deputy Assistant Secretary for Transportation Policy. Effective March 15, 2000.

Department of Veterans Affairs

Special Assistant to the Chief of Staff. Effective March 2, 2000.

Environmental Protection Agency

Special Assistant to the Deputy Administrator. Effective March 10, 2000.

National Aeronautics and Space Administration

Public Affairs Specialist to the Associate Administrator for Public Affairs. Effective March 30, 2000.

Occupational Safety and Health Review Commission

Confidential Assistant to the Member (Commissioner), Occupational Safety and Health Review Commission. Effective March 8, 2000.

Office of Management and Budget

Public Affairs Specialist to the Associate Director for Communication. Effective March 17, 2000.

Office of National Drug Control Policy

Staff Assistant to the Director, Office of National Drug Control Policy. Effective March 16, 2000.

Staff Assistant to the Deputy Director, Supply Reduction. Effective March 23, 2000.

Securities and Exchange Commission

Secretary to the Director, Office of Compliance Inspections and Examinations. Effective March 15, 2000.

Small Business Administration

Senior Advisor for Communications and Public Liaison to the Associate Administrator for Marketing and Customer Service. Effective March 9, 2000.

Press Officer and Senior Advisor to the Assistant Administrator for Public Communications. Effective March 27, 2000.

U.S. International Trade Commission

Staff Assistant to the Commissioner. Effective March 8, 2000.

Authority: 5 U.S.C. 3301 and 3302; E.O. 10577, 3 CFR 1954-1958 Comp., P.218

Office of Personnel Management.
Janice R. Lachance,
Director.

[FR Doc. 00-12685 Filed 5-19-00; 8:45 am]

BILLING CODE 6325-01-P